DEPARTMENT OF TRANSPORTATION

Pipeline and Hazardous Materials Safety Administration

[Docket No. PHMSA-2018-0025 (Notice No. 2020-05)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on an Office of Management and Budget (OMB) control number pertaining to hazardous materials transportation. This notice follows the publication of a PHMSA final rule titled “Hazardous Materials: Liquefied Natural Gas by Rail” [HM-264, 85 FR 44994] authorizing the transportation of liquefied natural gas by rail. PHMSA intends to request a renewal with change of currently approved OMB control number 2137-0612, “Hazardous Materials Security Plans.”

DATES: Interested persons are invited to submit comments on or before September 29, 2020.

ADDRESSES: You may submit comments identified by the Docket Number PHMSA-2018-0025 (Notice No. 2020-05) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2018-0025) for this notice at the beginning of the comment. To avoid duplication, please use only one of these four methods. All comments received will be posted without change to the Federal Docket Management System (FDMS) and will include any personal information you provide.

Requests for a copy of an information collection should be directed to Steven Andrews or Shelby Geller, Standards and Rulemaking Division, (202) 366-8553, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Info: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as “CBI.” Please mark each page of your submission containing CBI as “PROPIN.” PHMSA will treat such marked submissions as confidential under the FOIA, and they will not be placed in the public docket of this notice. Submissions containing CBI should be sent to Steven Andrews or Shelby Geller, Standards and Rulemaking Division and addressed to the Pipeline and Hazardous Materials Safety Administration, U.S. Department of Transportation, 1200 New Jersey Avenue SE, Washington, DC 20590-0001. Any commentary that PHMSA receives which is not specifically designated as CBI will be placed in the public docket for this notice.

FOR FURTHER INFORMATION CONTACT: Steven Andrews or Shelby Geller, Standards and Rulemaking Division, (202) 366-8553, Pipeline and Hazardous Materials Safety Administration, U.S. Department of Transportation, 1200 New Jersey Avenue SE, Washington, DC 20590-0001.

SUPPLEMENTARY INFORMATION: On July 24, 2020, PHMSA, in coordination with the Federal Railroad Administration (FRA), published a final rule ¹ titled “Hazardous Materials: Liquefied Natural Gas by Rail” [HM-264, 85 FR 44994], to allow for the bulk transport of “Methane, refrigerated liquid,” commonly known as liquefied natural gas (LNG), in rail tank cars. In this final rule, PHMSA amended the Hazardous Materials Regulations (HMR; 49 CFR parts 171-180) to require any rail carrier transporting a tank car quantity of UN1972 (Methane, refrigerated liquid (cryogenic liquid) or Natural gas, refrigerated liquid (cryogenic liquid)) to comply with the additional safety and security planning requirements for transportation by rail. PHMSA currently accounts for the burden associated with safety and security planning requirements in Office of Management and Budget (OMB) Control Number 2137-0612, “Hazardous Materials Security Plans.”

¹ See https://www.govinfo.gov/content/pkg/FR-2020-07-24/pdf/2020-13604.pdf.

OMB regulations require PHMSA to provide interested members of the public and affected agencies an opportunity to comment on information collection and recordkeeping requests. 5 CFR 1320.8(d). Under the Paperwork Reduction Act of 1995 (Pub. L. 96-511), no person is required to respond to an information collection unless it has been approved by OMB and displays a valid OMB control number. As the HM-264 final rule contains revisions that were not proposed in the notice of proposed rulemaking (NPRM) ² [October 24, 2019; 84 FR 56964], PHMSA is publishing this 60-day notice to provide an opportunity for public comment on the estimated increase in burden. The estimated increase in burden hours is reflected in “Section VI.G. Paperwork Reduction Act,” of the preamble to the final rule, with a minor adjustment due to a rounding error. PHMSA will subsequently publish a 30-day notice in response to any comments received to this notice, along with a submission to OMB reflecting this revised annual burden.

² See https://www.govinfo.gov/content/pkg/FR-2019-10-24/pdf/2019-22949.pdf.

PHMSA requests comments on the following increase in OMB Control Number 2137-0612:

| Increase in total number of railroads | increase in total number of routes | Burden hours per route | Increase in total burden hours | Salary cost per hour | Increase in total salary cost
Class I Railroads | 0 | 2 | 80 | 160 | $60.83 | $9,733
Class II Railroads | 0 | 1 | 80 | 80 | 60.83 | 4,866
Class III Railroads | 0 | 1 | 40 | 40 | 60.83 | 2,433
Total Increase in Primary Route Analysis |  | 4 |  | 280 |  | 17,032

| Increase in total number of railroads | Increase in total number of routes | Burden hours per route | Increase in total burden hours | Salary cost per hour | Increase in total salary cost
Class I Railroads | 0 | 2 | 120 | 240 | $60.83 | $14,599
Class II Railroads | 0 | 1 | 120 | 120 | 60.83 | 7,300
Class III Railroads | 0 | 1 | 40 | 40 | 60.83 | 2,433
Total Increase in Alternate Route Analysis |  | 4 |  | 400 |  | 24,332

Annual Increase in Number of Respondents: 0.

Annual Increase in Number of Responses: 8.

Annual Increase in Burden Hours: 680.

Annual Increase in Salary Costs: $41,364.

Issued in Washington, DC on July 27, 2020, under authority delegated in 49 CFR 1.97.
William A. Quade,
Deputy Associate Administrator of Hazardous Materials Safety, Pipeline and Hazardous Materials Safety Administration.

[FR Doc. 2020-16556 Filed 7-30-20; 8:45 am]

BILLING CODE 4910-60-P